DEPARTMENT OF THE INTERIOR

Bureau of Land Management

[CA-670-5101-ER-B140/CACA-42662]

Proposed Plan Amendments and Environmental Impact Statement/Environmental Impact Report for the North Baja Pipeline Project, California, in Accordance With 43 CFR 1610.5-5

AGENCY: Bureau of Land Management, Interior.

ACTION: Notice of Intent to consider proposed amendments to the California Desert Conservation Area Plan and the Yuma District Resource Management Plan in conjunction with the North Baja Pipeline project.

SUMMARY: This notice supplements the notice published by the Federal Energy Regulatory Commission (FERC) in the Federal Register in the issue of May 22, 2001 at page 28160 (66 FR 28160). That notice requested comments on environmental issues related to the Bureau of Land Management's (BLM) consideration of amendments to the Yuma Resource Management Plan (RMP) and the California Desert Conservation Area (CDCA) Plan. The proposed North Baja Pipeline project extends from Ehrenberg, Arizona through Riverside and Imperial Counties south to the Mexican border. All federal lands affected by the proposed plan amendments are located in eastern Imperial County, California. FERC and the California State Lands Commission are jointly preparing an Environmental Impact Statement and an Environmental Impact Report (EIS/EIR) that will analyze the environmental impacts of the proposed project. An amendment to the CDCA Plan is required because part of the proposed project is not within a CDCA designated Utility Corridor. An amendment to the Yuma RMP is required because the proposed project would cross portions of the Milpitas Wash Natural Area, and that plan does not allow for new utilities within this area. BLM will attempt to use the EIS/EIR to consider the plan amendments. If the Plan(s) are not amended, BLM may authorize installation of the project within existing corridors only, or BLM may deny the project if the existing corridor option does not prove feasible. The currently identified environmental issues are listed in the notice previously published by FERC in the Federal Register in the issue dated December 18, 2000 at page 79097 (65 FR 79097).

DATES: Submit comments, concerning the scope of the proposed amendments, on or before July 5, 2001.

ADDRESSES: Written comments should be addressed by Lynda Kastoll, Project Manager, Bureau of Land Management, El Centro Field Office, 1661 So. 4th Street, El Centro, CA 92243.

FOR FURTHER INFORMATION CONTACT: Lynda Kastoll at the above address or at (760) 337-4421.

SUPPLEMENTARY INFORMATION: North Baja Pipeline Project's proposed action consists of the construction and operation of about 79.8 miles of pipeline, including 11.5 miles of 36-inch-diameter and 68.3 miles of 30-inch-diameter pipe, extending from an interconnection with El Paso Natural Gas Company in La Paz County, Arizona, through Riverside and Imperial Counties, California, to an interconnection at the international border between the United States and Mexico. It includes the construction of a new compressor station (with associated metering facilities) in Ehrenberg, Arizona, a meter station near the Ogilby Road-Interstate 8 interchange in Imperial County, CA and a pig launcher and receiver facility near Rannel's Drain and 18th Avenue in Riverside County, California. A pig is an internal tool used to inspect the pipeline for potential leaks or damage.

The nominal construction right-of-way (construction corridor) for the pipeline would be 80 feet wide, with 50 feed retained as permanent right-of-way. About 63 percent of the pipeline route would abut or overlap existing road or powerline rights-of-way.

The first 11.5 miles of the project are in or adjacent to agricultural lands in the Blythe and Palo Verde Valley areas. The alignment then parallels an electric transmission line and Stallard Road on the Palo Verde Mesa from Mile Post (MP) 11.5 to MP 28. From MP 28 to MP 39 it parallels Highway 78, then from MP 39 to MP 75 it parallels either an electric transmission line or public roadways for all but about 5.4 miles, across desert habitats. It crosses Interstate 8 at MP 75, then parallels the edge of sand dunes to its crossing of the All American Canal at MP 79.5 and its termination in Mexico at MP 79.6.

The combined United States and Mexico pipeline system is initially designed to carry 500 million cubic feet per day of natural gas. As designed, the new pipeline system will serve existing and planned power plants in Mexico and in the United States that in turn serve electric power demand in northern Baja California, Mexico and western United States' markets.

The total project configuration, as proposed and including measures to avoid, minimize, or mitigate impacts on the environment, is being considered along with several alternatives, including building the pipeline entirely within existing corridors as designated in the California Desert Conservation Area Plan, and a “No Action” alternative.

Dated: May 22, 2001.
MarLynn Spears,
Acting Chief, Branch of Lands (CA-931).

[FR Doc. 01-14078 Filed 6-4-01; 8:45 am]

BILLING CODE 4310-40-M